DEPARTMENT OF TRANSPORTATION

Federal Transit Administration

FTA Fiscal Year 2011 Apportionments, Allocations and Program Information: Corrections

AGENCY: Federal Transit Administration (FTA), DOT.

ACTION: Notice; corrections.

SUMMARY: This notice corrects Table 3 (FY 2011 Section 5307 and Section 5340 Urbanized Area Apportionments), Table 6 (FY 2011 Small Transit Intensive Cities Performance Data and Apportionments) and Table 10 (Prior Year Unobligated Section 5309 Bus and Bus Related Equipment and Facilities) that were published in the February 8, 2011, (76 FR 6958) Federal Transit Administration (FTA) notice titled “FTA Fiscal Year 2011 Apportionments, Allocations and Program Information.”

FOR FURTHER INFORMATION CONTACT: For general information about this notice contact Kimberly Sledge, Team Leader, Transit Program Management Team, at (202) 366-2053.

Issued in Washington, DC, February 9, 2011.
Peter Rogoff,
Administrator.

BILLING CODE P

[FR Doc. 2011-3293 Filed 2-14-11; 8:45 am]

BILLING CODE C